DEPARTMENT OF AGRICULTURE

Submission for OMB Review; Comment Request

February 19, 2021.

The Department of Agriculture has submitted the following information collection requirement(s) to OMB for review and clearance under the Paperwork Reduction Act of 1995, Public Law 104-13. Comments are requested regarding (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding this information collection received by March 29, 2021 will be considered. Written comments and recommendations for the proposed information collection should be submitted within 30 days of the publication of this notice on the following website www.reginfo.gov/public/do/PRAMain. Find this particular information collection by selecting “Currently under 30-day Review—Open for Public Comments” or by using the search function. An agency may not conduct or sponsor a collection of information unless the collection of information displays a currently valid OMB control number and the agency informs potential persons who are to respond to the collection of information that such persons are not required to respond to the collection of information unless it displays a currently valid OMB control number.

Office of the Assistant Secretary for Civil Rights

Title: USDA Program Discrimination Complaint Form.

OMB Control Number: 0508-0002.

Summary of Collection: Under 7 CFR 15.6 “any person who believes himself or any specific class of individuals to be subjected to discrimination . . . may by himself or by an authorized representative file a written complaint based on the ground of such discrimination.” The collection of this information is the avenue by which the individual or his representative may file such a complaint. The requested information is necessary for the Office of the Assistant Civil Rights to address the alleged discriminatory action.

Need and Use of the Information: The requested information which can be submitted by filling out the USDA Program Discrimination Form or by submitting written correspondence, is necessary in order for the USDA Office of the Assistant Secretary for Civil Rights (OASCR) to address the alleged discriminatory action. The respondent is asked to provide his/her name, mailing address, property address (if different from mailing address), telephone number, email address (if any) and to provide a name and contact information for the respondent's representative (if any). A brief description of who was involved with the alleged discriminatory action, what occurred and when, is requested. The program discrimination complaint filing information, which is voluntarily provided by the respondent. OASCR uses the form information obtained from the respondent to evaluate, investigate, attempt resolution, and process alleged complaints. If information regarding alleged discrimination is not collected from the individual who believes he/she has experienced discrimination in a USDA program, it would not be possible for the USDA to address and rectify the alleged discrimination.

Description of Respondents: Producers, applicants, and USDA customers.

Number of Respondents: 278.

Frequency of Responses: Reporting: Annually.

Total Burden Hours: 278.

Ruth Brown,
Departmental Information Collection Clearance Officer.

[FR Doc. 2021-03848 Filed 2-24-21; 8:45 am]

BILLING CODE 3410-9R-P